DEPARTMENT OF ENERGY

Federal Energy Regulatory Commission

[Project No. 2232-698]

Notice of Availability of Environmental Assessment; Duke Energy Carolinas, LLC

In accordance with the National Environmental Policy Act of 1969 and the Federal Energy Regulatory Commission (Commission) regulations, 18 CFR part 380 (Order No. 486, 52 FR 47897), the Office of Energy Projects has reviewed an application submitted by Duke Energy Carolinas, LLC (licensee) to allow Carolina Sand, Inc. (Carolina Sand), in Burke County, North Carolina, the use of Catawba-Wateree Hydroelectric (FERC No. 2232) project lands and waters to conduct hydraulic sand mining. The project is located on the Catawba and Wateree rivers in Burke, McDowell, Caldwell, Catawba, Alexander, Iredell, Mecklenburg, Lincoln, and Gaston counties, North Carolina, and York, Lancaster, Chester, Fairfield, and Kershaw counties in South Carolina. The project does not occupy federal land.

An Environmental Assessment (EA) has been prepared as part of Commission staff's review of the proposal. In the application, Carolina Sand proposes to resume activity at a previously used sand dredging location, to remove an average of 33,000 tons or 25,385 cubic yards of sand from Lake Rhodhiss per year. This EA contains Commission staff's analysis of the probable environmental impacts of the proposed amendment and concludes that approval of the proposal would not constitute a major federal action significantly affecting the quality of the human environment.

The EA is available for electronic review and reproduction at the Commission's Public Reference Room, located at 888 First Street NE, Room 2A, Washington, DC 20426. The EA may also be viewed on the Commission's website at http://www.ferc.gov using the eLibrary link. Enter the docket number (P-2232) in the docket number field to access the document. For assistance, contact FERC Online Support at FERCOnlineSupport@ferc.gov or toll-free at (866) 208-3372 or for TTY, (202) 502-8659.

For further information, contact Alicia Burtner at (202) 502-8038 or by email at Alicia.Burtner@ferc.gov.

Dated: May 29, 2018
Kimberly D. Bose,
Secretary.

[FR Doc. 2018-12096 Filed 6-5-18; 8:45 am]

BILLING CODE 6717-01-P